DEPARTMENT OF HOMELAND SECURITY

Federal Emergency Management Agency

[Docket ID: FEMA-2020-0029; OMB No. 1660-0142]

Agency Information Collection Activities: Submission for OMB Review; Comment Request; Survivor Sheltering Assessment

AGENCY: Federal Emergency Management Agency, Department of Homeland Security.

ACTION: 30-Day notice of revision and request for comments.

SUMMARY: The Federal Emergency Management Agency (FEMA), as part of its continuing effort to reduce paperwork and respondent burden, invites the general public to take this opportunity to comment on a revision of a currently approved collection. In accordance with the Paperwork Reduction Act of 1995, this notice seeks comments concerning the revision of the collection “Survivor Sheltering Assessment” to include an alternate streamlined form and exchange of information process with State, Tribal, and territorial (STT) governments.

DATES: Comments must be submitted on or before March 26, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Christopher Shoup, Privacy Project Lead, Reporting & Analytics Division, FEMA Recovery Directorate; by email at christopher.shoup@fema.dhs.gov or by telephone at (202) 733-7544.

SUPPLEMENTARY INFORMATION: FEMA provides Public Assistance (PA) funding to STTs for costs related to emergency sheltering for survivors. Typically, sheltering occurs in facilities with large open spaces, such as schools, churches, community centers, armories, or other similar facilities rather than in non-congregate environments, which are locations where each individual or household has living space that offers some level of privacy (e.g., hotels, motels, casinos, dormitories, retreat camps, etc.). However, FEMA recognizes that sheltering operations during the COVID-19 Public Health Emergency may require STT's to consider additional strategies to ensure that survivors are sheltered in a manner that does not increase the risk of exposure to or further transmission of COVID-19. FEMA will provide flexibility to STTs to take measures to safely conduct non-congregate sheltering activities.

This proposed information collection was previously published in the Federal Register on December 11, 2020, at 85 FR 80126 with a 60 day public comment period. No comments were received. The purpose of this notice is to notify the public that FEMA will submit the information collection abstracted below to the Office of Management and Budget for review and clearance.

Collection of Information

Title: Survivor Sheltering Assessment.

Type of information collection: Revision of a currently approved information collection.

OMB Number: 1660-0142.

Form Titles and Numbers: FEMA Form 009-0-42, Survivor Sheltering Assessment; FEMA Form 009-0-42AV, Survivor Sheltering Assessment—Alternate Version.

Abstract: FEMA will encourage STTs operating non-congregate shelters to collect basic shelter resident data. If there is a subsequent Major Disaster Declaration that includes the Individual Assistance (IA) program, FEMA and STTs may begin a bi-lateral exchange of data to coordinate and expedite assistance to shelter residents. This data exchange will enable FEMA to share additional disaster survivor data on losses and needs to STT shelter managers facilitating a coordinated effort to provide resources to shelter residents. This data also provides STTs increased ability for shelter planning and shelter population management.

Affected Public: Individuals or Households, State, Tribal or Territorial Government.

Estimated Number of Respondents: 51,200.

Estimated Number of Responses: 51,200.

Estimated Total Annual Burden Hours: 8,535.

Estimated Total Annual Respondent Cost: $320,490.

Estimated Respondents' Operation and Maintenance Costs: N/A.

Estimated Respondents' Capital and Start-Up Costs: N/A.

Estimated Total Annual Cost to the Federal Government: $307,884.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-03792 Filed 2-23-21; 8:45 am]

BILLING CODE 9111-23-P